DEPARTMENT OF DEFENSE

Department of the Army; Corps of Engineers

Grant of Partially Exclusive Licenses

AGENCY: Department of the Army, U.S. Corps of Engineers, DoD.

ACTION: Notice.

SUMMARY: In accordance with 37 CFR 404.7(a)(1)(i), announcement is made of a prospective partially exclusive license for the manufacture, use, and sale of building elements or blocks based on U.S. Patent Number 6,264,735 entitled “Low-Lead Leaching Foamed Concrete Bullet Barrier” and U.S. Patent Number 6,620,236 entitled “Material, and Method of Producing it, for Immobilizing Heavy Metals Later Entrained Therein” having a unit weight of 100 pounds or less.

ADDRESSES: United States Army Engineer Research and Development Center, Waterways Experiment Station, ATTN: CEERD-OP-MS (Mr. Phillip Stewart), 3909 Halls Ferry Road, Vicksburg, MS 39180-6199.

DATES: Written objections must be filed not later than 30 days after publication of this notice.

FOR FURTHER INFORMATION CONTACT: Mr. Phillip Stewart, ATTN: CEERD-OP-MS; (601) 634-4113, FAX (601) 634-4110; e-mail: phillip.stewart@erdc.usace.army.mil; U.S. Army Engineer Research and Development Center, Waterways Experiment Station, 3909 Halls Ferry Road, Vicksburg, MS 39180-6199.

SUPPLEMENTARY INFORMATION: These patents relate to a low-lead leaching foamed concrete having properties that make it a highly desirable material for use as a bullet barrier. Bullets will not ricochet upon impact, but remain embedded in the concrete. The material is non-flammable, and the calcium phosphate and aluminum hydroxide in the admixture react with the lead fragments from the bullets to produce an insoluble lead aluminum phosphate coating that keeps lead out of the environment, eliminating the high disposal costs associated with what would otherwise be a hazardous material. This concrete material is being made and sold under the trademark name of SACON® shock absorbing concrete. Patent number 6,264,735 claims the addition of phosphate to a foamed cement-based mortar and patent number 6,620,236 claims the addition of phosphate and aluminum compounds to a foamed Portland cement-based mortar. The United States of America, as represented by the Secretary of the Army, intends to grant an exclusive license for the manufacture, use, and sale of building elements or blocks having a unit weight of less than 100 pounds or less that are based on the subject patents to Mississippi Prison Industries Corporation, a non-profit corporation created in 1990 by the state of Mississippi with principal offices located in Jackson, Mississippi. Pursuant to 37 CFR 404.7(b)(1)(i), any interested party may file a written objection to this prospective exclusive license agreement.

Richard L. Frenette,
Counsel.

[FR Doc. 04-7966 Filed 4-7-04; 8:45 am]

BILLING CODE 3710-92-P